DEPARTMENT OF ENERGY

Office of Science

High Energy Physics Advisory Panel.

AGENCY: Department of Energy.

ACTION: Amendment in change of location of open meeting.

SUMMARY: This notice announces the change in location of the High Energy Physics Advisory Panel meeting on November 7-8, 2002, to the Radisson Hotel, Old Town Alexandria, Alexandria, VA 22314.

Issued in Washington, DC on October 10, 2002.
Rachel Samuel,
Deputy Advisory Committee Management Officer.

[FR Doc. 02-26266 Filed 10-15-02; 8:45 am]

BILLING CODE 6450-01-P